FEDERAL COMMUNICATIONS COMMISSION

Notice of Public Information Collection(s) Being Reviewed by the Federal Communications Commission for Extension Under Delegated Authority, Comments Requested

January 3, 2011

SUMMARY: The Federal Communications Commission, as part of its continuing effort to reduce paperwork burden invites the general public and other Federal agencies to take this opportunity to comment on the following information collection(s), as required by the Paperwork Reduction Act of 1995, 44 U.S.C. 3501-3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees

The FCC may not conduct or sponsor a collection of information unless it displays a currently valid OMB control number. No person shall be subject to any penalty for failing to comply with a collection of information subject to the Paperwork Reduction Act (PRA) that does not display a valid OMB control number.

DATES: Persons wishing to comment on this information collection should submit their PRA comments March 14, 2011. If you anticipate that you will be submitting comments, but find it difficult to do so within the period of time allowed by this notice, you should advise the contact listed below as soon as possible.

ADDRESSES: Submit all PRA comments to Nicholas A. Fraser, Office of Management and Budget (OMB), via fax at 202-395-5167, or via the Internet at Nicholas_A._Fraser@omb.eop.gov and to Judith-B.Herman@fcc.gov, Federal Communications Commission (FCC). To submit your PRA comments by e-mail send them to: PRA@fcc.gov.

To view a copy of this information collection request (ICR) submitted to OMB: (1) Go to the Web page http://www.reginfo.gov/public/do/PRAMain, (2) look for the section of the web page called “Currently Under Review”, (3) click the downward-pointing arrow in the “Select Agency” box below the “Currently Under Review” heading, (4) select “Federal Communications Commission” from the list of agencies presented in the “Select Agency” box, (5) click the “Submit” button to the right of the “Select Agency” box and (6) when the list of FCC ICRs currently under review appears, look for the title of this ICR (or its OMB Control Number, if there is one) and then click on the ICR Reference Number to view detailed information about this ICR.

FOR FURTHER INFORMATION CONTACT: For additional information, send an e-mail to Judith-B.Herman@fcc.gov or contact her at 202-418-0214.

SUPPLEMENTARY INFORMATION:

OMB Control Number: 3060-0391.

Title: Program to Monitor the Impacts of the Universal Service Support Mechanism, CC Docket Nos. 98-202 and 96-45.

Form No.: N/A.

Type of Review: Extension of a currently approved collection.

Respondents: Business or other for-profit.

Number of Respondents: 288 respondents; 1,152 responses.

Estimated Time per Response: 40 minutes.

Frequency of Response: Quarterly and annual reporting requirements and third party disclosure requirement.

Obligation to Respond: Required to obtain or retain benefits. Statutory authority for this information collection is contained in 47 U.S.C. sections 151, 152, 154, 201-205, 215, 218, 220, 229, 254, and 410.

Total Annual Burden: 770 hours.

Total Annual Cost: N/A.

Privacy Act Impact Assessment: N/A.

Nature and Extent of Confidentiality: The respondents may request confidentiality protection for the special access performance information. The respondents are not required to file their customers' monthly usage information with the Federal Communications Commission (FCC).

Needs and Uses: The Commission will submit this expiring information collection to the Office of Management and Budget (OMB) after this 60 day comment period in order to obtain the full three year clearance from them. The Commission is requesting an extension (no change in the reporting requirements and/or third party disclosure requirements) of this information collection. The Commission is reporting a 243 hour increase in the total annual burden. The increase is due to a re-calculation of the estimated number of respondents/responses.

The monitoring program is necessary for the Commission, the Joint Board, Congress and the general public to assess the impact of the universal service support mechanisms. The program requires periodic reporting by telephone companies and the universal service administrator. Failure to implement the program would make it impossible to determine the impact of these mechanisms and to assure that the implementation of section 254 fulfills the intent of Congress and furthers the public interest. This information collection should be continued because the Commission had adopted new mechanisms to implement section 254 of the Act and because the network usage and growth data have proven to be a valuable source of information about the advancement of universal service.

Federal Communications Commission.
Marlene H. Dortch,
Secretary.

[FR Doc. 2011-561 Filed 1-12-11; 8:45 am]

BILLING CODE 6712-01-P